DEPARTMENT OF ENERGY

Federal Energy Regulatory Commission

Notice of Application for Amendment of License and Soliciting Comments, Motions To Intervene, and Protests

July 26, 2001.

Take notice that the following application has been filed with the Commission and is available for public inspection:

a. Application Type: Amendment of Installed Capacity.

b. Project No: 2407-060.

c. Date Filed: June 1, 2001.

d. Applicant: Alabama Power Company.

e. Name of Project: Yates and Thurlow.

f. Location: near the Town of Tallassee, in Tallapoosa and Elmore Counties, AL.

g. Filed Pursuant to: Federal Power Act, 16 U.S.C. 791 (a) 825(r) and sections 799 and 801.

h. Applicant Contact: R. M. Akridge, Alabama Power Company, 600 North 18th Street, PO Box 2641, Birmingham, AL 35291-8180.

i. FERC Contact: Any questions on this notice should be addressed to: Anumzziatta Purchiaroni at (202) 219-3297, or e-mail address: anumzziatta.purchiaroni@ferc.fed.us.

j. Deadline for filing comments and or motions: September 7, 2001.

All documents (original and eight copies) should be filed with: David P. Boergers, Secretary, Federal Energy Regulatory Commission, 888 First Street, NE., Washington DC 20426. Please include the project number (P-2407-060) on any comments or motions filed.

k. Description of Request: The licensee is requesting an amendment of its license to revise the hydraulic and generating capacities of the project. In the filing the licensee indicates that the project has recently completed turbine and generator upgrades for Yates units Nos. 1 and 2 and Thurlow Units Nos. 1, 2, and 3. The upgrades resulted in an increased of the total installed capacity from 100.3 MW to 125.6 MW, and the design flow from 20,800 cfs to 25,616 cfs.

l. Locations of the Application: Copies of this filing are on file with the Commission and are available for public inspection. This filing may be viewed on the Commission's web site at& http://www.ferc.gov using the “RIMS” link, select “Docket #” and follow the instructions ((202)208-2222 for assistance). Comments, protests and interventions may be filed electronically via the Internet in lieu of paper. See, 18 CFR 385.2001(a)(1)(iii) and the instructions on the Commission's web site under the “e-Filing” link.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's web site at http://www.ferc.fed.us/efi/doorbell.htm.

Linwood A. Watson, Jr.,
Acting Secretary.

[FR Doc. 01-19137 Filed 7-31-01; 8:45 am]

BILLING CODE 6717-01-P